DEPARTMENT OF THE INTERIOR

National Park Service

30-Day Notice of Intention To Request Clearance of Collection of Information to the Office of Management and Budget; Opportunity for Public Comment

AGENCY: National Park Service, The Department of the Interior.

ACTION: Notice and request for comments.

SUMMARY: In accordance with the Paperwork Reduction Act of 1995 (Pub. L. 104-13, 44 U.S.C., chapter 3507) and 5 CFR Part 1320, Reporting and Record keeping Requirements, the National Park Service invites public comments on a submitted request to the Office of Management and Budget (OMB) to approve a request to reinstate, with change, a previously approved collection for which approval has expired (OMB #1024-0226).

The OMB has up to 60 days to approve or disapprove the requested information collection, but may respond after 30 days. Therefore, to ensure maximum consideration, OMB should receive public comments within 30 days of the date on which this notice is published in the Federal Register.

DATES: Public comments will be accepted on or before August 9, 2006.

ADDRESSES: You may submit comments directly to the Desk Officer for the Department of the Interior (OMB #1024-0226), Office of Information and Regulatory Affairs, OMB, by fax at (202) 395-6566, or by e-mail at oira_docket @omb.eop.gov. Please also mail or hand carry a copy of your comments to Cyndi Szymanski, Outdoor Recreation Planner, Rivers, Trails and Conservation Assistance Program, National Park Service, 1849 C Street, NW., (org code 2220), Washington, DC 20240. all comments will be a matter of public record.

FOR FURTHER INFORMATION CONTACT: Cyndi Szymanski, Outdoor Recreation Planner, Rivers, Trails and Conservation Assistance Program, National Park Service, 1849 C Street, NW., (org code 2220), Washington, DC 20240.

The National Park Service published the 60-day Federal Register notice to solicit comments on this proposed information collection on March 29, 2006 on pages 15759-15760. There was one public comment received as a result of publishing in the Federal Register a 60-day Notice of Intention to Request Clearance of Collection of Information for this survey. Comments were also solicited from 28 past partners and two responses were received. Both respondents indicated that they had no comments so no adjustments were made to the survey.

SUPPLEMENTARY INFORMATION: Titles: National Park Service Partnership Assistance Programs' GPRA Information Collections: Rivers, Trails and Conservation Assistance Customer Satisfaction Survey and Federal Lands to Parks Customer Satisfaction Survey.

Form: None.

OMB Number: NPS 1024-0226.

Expiration Date: To be requested.

Type of request: Reinstatement, with change, of a previously approved collection for which approval has expired.

Description of need: The Government Performance and Results Act requires Federal agencies to prepare annual performance reports documenting the progress made toward achieving long-term goals. The National Park Service needs the information in the proposed collections to assess the annual progress being made toward meeting Long-term Goal IIIb2 of the National Park Service Strategic Plan. The information sought is not collected elsewhere by the Federal Government. The proposed information collections impose no data collection or record keeping burden on the potential respondents. Responding to the proposed collections is voluntary and is based on data that the respondents already collect and/or personal opinion. The National Park Service needs information to help evaluate and improve its partnership assistance programs.

Specifically two information collections will be carried out pursuant to the Government Performance and Results Act and the NPS Strategic Plan. Both of the proposed information collections are surveys of customer satisfaction of certain NPS programs and types of assistance. NPS' Rivers, Trails and Conservation Assistance Program and Federal Lands to Parks Program will conduct surveys to assess client satisfaction with the services received and to identify needed program improvements. The NPS goal in conducting these surveys is to use the information to identify areas of strength and weakness in its recreation and conservation assistance programs, to provide an information base for improving those programs, and to provide a required performance measurement (Goal IIIb2 of the National Park Service Strategic Plan) under the Government Performance and Results Act.

Public comments are invited on: (1) The need for information including whether the information has practical utility; (2) the accuracy of the reporting burden estimate; (3) ways to enhance the quality, utility, and clarity of the information to be collected; and (4) ways to minimize the burden of information collection on respondents, including the use of automated collection techniques or other forms of information technology.

Description of respondents: The potential respondents will be all contact persons of all principal cooperating organizations and agencies which have received substantial assistance from the Rivers, Trails and Conservation Assistance Program or the Federal Lands to Parks Program during the prior Fiscal Year (October 1 through September 30).

Estimated average number of respondents: 255. See the chart below for a breakdown by each information collection.

Estimated average number of responses: 150. See the chart below for a breakdown by each information collection

Estimated average burden hours per response: 10 minutes. See the chart below for a breakdown by each information collection.

Frequency of Response: One time per publication or technical assistance event.

Estimated annual reporting burden: 25 hours. See the chart below for a breakdown by each information collection.

Estimated number of:

Information collection | Respondents | Responses | Average time per response (min.) | Hours
Rivers, Trails and Conservation Assistance Program | 200 | 120 | 10 | 20
Federal Lands to Parks Programs | 55 | 30 | 10 | 5
Subtotal | 255 | 150 | 10 | 25

Dated: June 27, 2006.
Leonard E. Stowe,
National Park Service Information and Collection Clearance Officer.

[FR Doc. 06-6070 Filed 7-7-06; 8:45 am]

BILLING CODE 4312-52-M